FEDERAL MARITIME COMMISSION

[Docket No. FMC-2023-0013]

Agency Information Collection Activities: 30-Day Public Comment Request

AGENCY: Federal Maritime Commission.

ACTION: Thirty-day notice; request for comments.

SUMMARY: The Federal Maritime Commission (FMC) is giving public notice that the agency has submitted to the Office of Management and Budget (OMB) for approval a new data collection that utilizes a web portal to collect information from the public regarding comments, complaints, concerns, reports of noncompliance, requests for investigation, and requests for alternative dispute resolution. The collection implements certain provisions of the Ocean Shipping Reform Act of 2022. The public is invited to comment on the proposed information collection pursuant to the Paperwork Reduction Act of 1995.

DATES: Written comments must be submitted on or before December 11, 2023.

ADDRESSES: Comments should be submitted to: (1) the Commission through the Federal eRulemaking Portal at www.regulations.gov (docket FMC-2023-0013) and (2) also sent to the Office of Management and Budget's Office of Information and Regulatory Affairs through the portal at https://www.reginfo.gov/public/do/PRAMain.

Find this particular information collection at Reginfo.gov by selecting “Currently under Review—Open for Public Comments” or by using the search function.

If your material cannot be submitted to the addresses above, contact the person in the FOR FURTHER INFORMATION CONTACT section of this document for alternate instructions.

FOR FURTHER INFORMATION CONTACT: Amy Strauss, Acting Secretary; Phone: (202) 523-5725; Email: secretary@fmc.gov.

SUPPLEMENTARY INFORMATION:

Request for Comments

The Commission, as part of its continuing effort to reduce paperwork and respondent burden, invites the general public and other Federal agencies to comment on the continuing information collections listed in this notice, as required by the Paperwork Reduction Act of 1995 (44 U.S.C. 3501 et seq.).

Comments submitted in response to this notice will be included or summarized in our request for OMB approval of the relevant information collection. All comments are part of the public record and subject to disclosure. Please do not include any confidential or inappropriate material in your comments. We invite comments on: (1) the necessity and utility of the proposed information collection for the proper performance of the agency's functions; (2) the accuracy of the estimated burden; (3) ways to enhance the quality, utility, and clarity of the information to be collected; and (4) the use of automated collection techniques or other forms of information technology to minimize the information collection burden.

Previous Request for Comments

On July 11, 2023, the Commission published notice and request for comment in the Federal Register (88 FR 44130) regarding the agency's request for approval from OMB for information collections as required by the Paperwork Reduction Act of 1995. During the 60-day period, the Commission received no comments on the request for OMB clearance.

Information Collections Open for Comment

Title: FMC Assistance Center (Web Portal).

OMB Approval Number: 3072-XXXX.

Abstract: Subsection 17(a) of the Ocean Shipping Reform Act of 2022 requires that the Commission establish on their public website a web page that allows for the submission of comments, complaints, concerns, reports of noncompliance, requests for investigation, and requests for alternative dispute resolution.¹ The statute also requires that the website direct each submission to the appropriate component office of the Commission.

¹ Ocean Shipping Reform Act of 2022, Public Law 117-146 (June 16, 2022).

The FMC will implement a new web portal, the FMC Assistance Center, available through the agency's website to collect this information from the public. The collected information will be internally routed to the appropriate component office for response. As this collection includes inquiries related to dispute resolution services, it also encompasses Forms FMC-32 (Dispute Resolution Service Request—Cruise) and FMC-33 (Dispute Resolution Service Request—Cargo). Forms FMC-32 and FMC 33 have been modified in the Affirmation section to remove a statement directing the public to a link on the agency web page and to add a statement that the matter will be closed if false statements and documents are provided. These forms and the Assistance Center screen mock-ups are included in this docket. The burden associated with these forms is included in this collection.

Current Actions: The information being submitted contains a new data collection.

Type of Review: New information collection.

Needs and Uses: The Commission will use the FMC Assistance Center (web portal) to receive requests from the public and ensure prompt response to the shipping public.

Frequency: This information will be collected when members of the public choose to submit it.

Type of Respondents: Individuals and establishments who wish to ask questions, express concerns, or submit complaints to the Federal Maritime Commission.

Number of Annual Respondents: The Commission estimates an annual respondent universe of 5,000. The Commission further estimates 300 of these responses will require attaching an FMC form related to dispute resolution services (FMC-32 or FMC-33).

Estimated Time per Response: The time per response is estimated at 6 minutes per response for submissions that do not involve attaching forms and 20 minutes for responses requiring attaching forms.

Total Annual Burden: Burden is calculated as 4,700 × 6 minutes = 470 hours per portal submission that does not also include a form and 300 × 20 minutes = 100 hours for a submission that also includes either FMC-32 or FMC-33. Total burden equals 570 hours.

Carl Savoy,
Federal Register Alternate Liaison Officer.

[FR Doc. 2023-24785 Filed 11-8-23; 8:45 am]

BILLING CODE 6730-02-P